DEPARTMENT OF HOMELAND SECURITY

Coast Guard

33 CFR Part 165

[Docket No. USCG-2026-0033]

Safety Zone; Annual Fireworks Displays and Other Events in the USCG Heartland District Requiring Safety Zones

AGENCY: Coast Guard, DHS.

ACTION: Notification of enforcement of regulation.

SUMMARY: The Coast Guard will enforce a safety zone for the Riverwalk Marketplace/Lundi Gras Fireworks Display, to provide for the safety of life on the navigable waterways during this event. Our regulation for annual safety zones in the USCG Heartland District identifies the regulated area for this event in New Orleans, LA. During the enforcement period, entry into this zone is prohibited unless authorized by the Captain of the Port Sector New Orleans or a designated representative.

DATES: The regulation in 33 CFR 165.801, Table 5, line 1 will be enforced from 6 p.m. through 7 p.m. on February 16, 2026.

FOR FURTHER INFORMATION CONTACT: If you have questions about this notification of enforcement, call or email Lieutenant Commander Jacob Gamble, Sector New Orleans, U.S. Coast Guard, 504-269-7251, email Jacob.S.Gamble@uscg.mil.

SUPPLEMENTARY INFORMATION: The Coast Guard will enforce a safety zone for the Riverwalk Marketplace/Lundi Gras Fireworks Display from 6 p.m. through 7 p.m. on February 16, 2026. This action is being taken to provide for the safety of life on the navigable waterways during this one-day event. Our regulation for Annual fireworks displays and other events in the USCG Heartland District requiring safety zones, in 33 CFR 165.801, Table 5, Line 1 specifies the location of the safety zone on the Lower Mississippi River, from Mile Marker 93.0 to 96.0. During the enforcement period, as reflected in § 165.801 (a)-(c), entry into this zone is prohibited unless authorized by the Captain of the Port or a designated representative. A designated representative means any Coast Guard commissioned, warrant, or petty officer of the U.S. Coast Guard assigned to units under the operational control of Sector New Orleans; to include a Federal, State, and/or local officer designated by or assisting the COTP in the enforcement of the safety zone.

In addition to this notification of enforcement in the Federal Register, the Coast Guard plans to provide notification of this enforcement period and any changes in the planned schedule via Broadcast Notice to Mariners and actual notice via VHF-FM Channels 16 and 22A.

G.A. Callaghan,
Captain, U.S. Coast Guard, Captain of the Port Sector New Orleans.

[FR Doc. 2026-02354 Filed 2-5-26; 8:45 am]

BILLING CODE 9110-04-P